SMALL BUSINESS ADMINISTRATION

Data Collection Available for Public Comments

AGENCY: U.S. Small Business Administration

ACTION: 60-Day notice and request for comments.

SUMMARY: The Small Business Administration (SBA) intends to request approval from the Office of Management and Budget (OMB) for a revision to the collection of information in SBA Form 1919, “SBA 7(a) Borrower Information Form—For use with all 7(a) Programs”, described below. The Paperwork Reduction Act (PRA) requires federal agencies to publish a notice in the Federal Register concerning each proposed collection of information before submission to OMB, and to allow 60 days for public comment in response to the notice. This notice complies with that requirement.

DATES: Submit comments on or before April 24, 2026.

ADDRESSES: Send all comments to Randall Puckett, Office of Financial Assistance, Small Business Administration at Randall.Puckett@sba.gov.

FOR FURTHER INFORMATION CONTACT: Randall Puckett, Financial Analyst, 7(a) Loan Origination Division, Office of Financial Assistance, Randall.Puckett@sba.gov, (501) 296-3033, or Shauniece Carter, Interim Agency Clearance Officer, (202) 205-6536, shauniece.carter@sba.gov. A copy of the revised Form 1919 may be obtained without charge by request to Randall.Puckett@sba.gov.

SUPPLEMENTARY INFORMATION: SBA is proposing to update SBA Form 1919 (“the Form”) to conform to Administration priorities, Executive Orders, regulations, policy, and procedural 7(a) loan program updates implemented since the last review of the Form.

SBA intends to amend the “Applicant Ownership (Mandatory) and Demographic Information” section of the Form to revise the instructional paragraph for the Applicant to Identify 100% of the direct and indirect (i.e., those who have an ownership interest in an entity that owns the Applicant) owners of the Applicant, key employees of the Applicant, and guarantors on the loan.

The current version of the Form requires the Applicant to provide the following mandatory owner demographic information: the owner's legal name, title, ownership percentage, tax identification number (TIN), and address. As a result of the enactment of Executive Order 14159, and recent regulatory, policy, and procedural changes since the last publication of the Form, SBA intends to add new information inputs for collection of the owner's date of birth (or date of formation for an entity owner); the owner's citizenship status; for entity owners, the type of entity; and the spouse's legal name if the spouse is also a direct or indirect owner of the Applicant or Operating Company (OC).

SBA intends to revise the language in the questions and certifications in the form to align with the recent changes to the regulatory and procedural requirements for the 7(a) guaranty loan program. Additionally, SBA intends to revise the instructions for completing this form section to provide additional instructions and clarity for NAICS codes, the purpose of the loan, and the Applicant's Ownership information.

SBA intends to update the SBA definitions section in the Form and add new certifications for compliance with recent regulatory, policy, and procedural updates. The proposed changes are being made to comply with Executive Order 14159, “Protecting the American People Against Invasion”, issued January 20, 2025, and incorporate Policy and Procedural changes published since the latest publication of the Form.

Solicitation of Public Comments

SBA is seeking to amend Form 1919 for compliance with the E.O. 14159 and to improve the clarity of the questions and instructions. SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0348.

Title: SBA 7(a) Borrower Information Form—For use with all SBA 7(a) Loan Programs.

Description of Respondents: Small Business 7(a) Loan Applicants.

Form Number: SBA Form 1919.

Total Estimated Annual Responses: 103,817.

Total Estimated Annual Hour Burden: 32,850 hours.

Shauniece Carter,
Interim Agency Clearance Officer.

[FR Doc. 2026-03545 Filed 2-20-26; 8:45 am]

BILLING CODE P